DEPARTMENT OF ENERGY

Federal Energy Regulatory Commission

[Docket No. CP11-187-000]

Gulf South Pipeline Company, LP; Notice of Request Under Blanket Authorization

Take notice that on April 11, 2011, Gulf South Pipeline Company, LP (Gulf South), 9 Greenway Plaza, Suite 2800, Houston, Texas 77046, pursuant to its blanket certificate issued in Docket No. CP82-430-000,¹ filed an application in accordance to sections 157.205(b), and 157.208(f)(2) of the Commission's Regulations under the Natural Gas Act (NGA) as amended, requesting to increase the pipeline capacity and maximum operating pressure of its Mobile Bay Lateral (Index 880) in Mobile County, Alabama, all as more fully set forth in the application, which is on file with the Commission and open to public inspection.

¹ Gulf South Pipeline Company, LP, 20 FERC ¶ 62,416 (1982).

Gulf South proposes to increase the south-bound capacity of its Index 880 by 54 MMcf/day to 304,000 MMcf/day by increasing the maximum operating pressure on the lateral from 976 to 982 psig. This increase in capacity will provide Gulf South's shippers the added flexibility to nominate additional deliveries into Florida markets through the Gulfstream Interconnect. Increasing the capacity by increasing the maximum operating pressure of the Index 880 will provide Gulf South with a timely and cost effective method of increasing firm transportation capacity to additional Florida markets. Gulf South states that its proposal will not have any adverse effects on the processing plant's operations.

Any questions concerning this application may be directed to J. Kyle Stephens, Vice President, Regulatory Affairs, Gulf South Pipeline Company, LP, 9 Greenway Plaza, Suite 2800, Houston, Texas 77046, at (713) 479-8033 or via fax (713) 479-1846, or e-mail at Kyle.Stephens@bwpmlp.com.

This filing is available for review at the Commission or may be viewed on the Commission's Web site at http://www.ferc.gov, using the “eLibrary” link. Enter the docket number excluding the last three digits in the docket number filed to access the document. For assistance, please contact FERC Online Support at FERC OnlineSupport@ferc.gov or call toll-free at (866) 206-3676, or, for TTY, contact (202) 502-8659. Comments, protests and interventions may be filed electronically via the Internet in lieu of paper. See, 18 CFR 385.2001(a)(1)(iii) and the instructions on the Commission's Web site under the “e-Filing” link. The Commission strongly encourages intervenors to file electronically.

Any person or the Commission's staff may, within 60 days after issuance of the instant notice by the Commission, file pursuant to Rule 214 of the Commission's Procedural Rules (18 CFR 385.214) a motion to intervene or notice of intervention and pursuant to section 157.205 of the regulations under the NGA (18 CFR 157.205), a protest to the request. If no protest is filed within the time allowed therefor, the proposed activity shall be deemed to be authorized effective the day after the time allowed for filing a protest. If a protest is filed and not withdrawn within 30 days after the allowed time for filing a protest, the instant request shall be treated as an application for authorization pursuant to section 7 of the NGA.

Dated: April 15, 2011.
Kimberly D. Bose,
Secretary.

[FR Doc. 2011-9797 Filed 4-21-11; 8:45 am]

BILLING CODE 6717-01-P